FARM CREDIT ADMINISTRATION

12 CFR Part 627

RIN 3052-AD46

Title IV Conservators and Receivers

AGENCY: Farm Credit Administration.

ACTION: Notification of effective date.

SUMMARY: The Farm Credit Administration (FCA) issued a direct final rule to repeal certain conservatorship and receivership regulations that have been superseded by the Agricultural Improvement Act of 2018. In accordance with the law, the effective date of the rule is no earlier than 30 days from the date of publication in the Federal Register during which either or both Houses of Congress are in session.

DATES: The direct final rule amending 12 CFR part 627, published on March 22, 2021 (86 FR 15081), is effective on May 13, 2021.

FOR FURTHER INFORMATION CONTACT:

Technical information: Ryan Leist, LeistR@fca.gov, Senior Accountant, or Jeremy R. Edelstein, EdelsteinJ@fca.gov, Associate Director, Finance and Capital Markets Team, Office of Regulatory Policy, Farm Credit Administration, McLean, VA 22102-5090, (703) 883-4414, TTY (703) 883-4056 or ORPMailbox@fca.gov; or

Legal information: Richard Katz, KatzR@fca.gov, Senior Counsel, Office of General Counsel, Farm Credit Administration, McLean, VA 22102-5090, (703) 883-4020, TTY (703) 883-4056.

SUPPLEMENTARY INFORMATION: On March 22, 2021, FCA issued a direct final rule to repeal certain conservatorship and receivership regulations in part 627 that have been superseded by section 5412 of the Agricultural Improvement Act of 2018. In accordance with 12 U.S.C. 2252(c)(1), the effective date of the rule is no earlier than 30 days from the date of publication in the Federal Register during which either or both Houses of Congress are in session. Based on the records of the sessions of Congress, the effective date of the regulations is May 13, 2021.

Dated: May 13, 2021.
Dale Aultman,
Secretary, Farm Credit Administration Board.

[FR Doc. 2021-10577 Filed 5-20-21; 8:45 am]

BILLING CODE 6705-01-P